DEPARTMENT OF HEALTH AND HUMAN SERVICES

Administration for Children and Families

Proposed Information Collection Acitivity; Comment Request]

Proposed Projects:

Title: Tribal Temporary Assistance for Needy Families Financial Report, ACF-196TT.

OMB No.: New collection.

Description: Authority to collect and report this information is found in the Personal Responsibility and Work Opportunity Reconciliation Act of 1996 (PRWORA), Pub. L. 104-193.

Tribal entities with approved tribal plans for implementation of the Temporary Assistance for Needy Families (TANF) program are required by statute to report financial data on a quarterly basis. This form provides specific data regarding Federal expenditures. Failure to collect this data would seriously compromise the Administration for Children and Families' (ACF) ability to monitor expenditures. This information is also used to estimate outlays and may be used to prepare ACF budget submissions to Congress. Financial management of the program would be seriously compromised if the expenditure data were collected on a less than quarterly basis. Federal policy requires the strictest controls on funding requirements, which necessitates quarterly review of documentation in support of Tribal expenditures for reimbursement.

In an effort to obtain comments on the content and use of this form, the form was distributed to ACF's Regional Offices and at various tribal conferences. Comments received were then used to guide us in the development of the product presented with this submittal.

Respondents: Tribal TANF Agencies.

Annual Burden Estimates
Instrument | Number of respondents | Number of responses per respondent | Average burden hours per response | Total burden hours
ACF-196TT | 32 | 4 | 8 | 1,024
Estimated Total Annual Burden Hours |  |  |  | 1,024

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. E-mail: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 22, 2004.
Robert Sargis,
Reports Clearance, Officer.

[FR Doc. 04-21610 Filed 9-24-04; 8:45 am]

BILLING CODE 4184-01-M